Title 3—

The President

Proclamation 10935 of May 9, 2025

Establishing Project Homecoming

By the President of the United States of America

A Proclamation

Over the last 4 years, the United States has endured a full-scale invasion of aliens entering and remaining in the country illegally, causing a relentless onslaught of crime, vagrancy, violence, and death in countless American communities. This lawless invasion has also limited the capacity of American schools and hospitals to provide for American citizens and has diverted billions of dollars in Federal, State, and local social services from Americans in need.

The continued presence of illegal aliens in our Nation forces American taxpayers to bear a tremendous fiscal burden to support them, including through costs related to healthcare, food stamps, public housing, emergency medical services, education, and shelter, as well as the costs of crimes committed by illegal aliens. In Fiscal Year 2023 alone, these costs were estimated to exceed $150 billion in taxpayer dollars. Removal flights of illegal aliens are a necessary aspect of immigration enforcement and upholding the rule of law, but they require substantial resources and manpower.

Therefore, the provision of financial incentives to encourage and assist aliens illegally in the country to elect to depart from the United States has the potential to save tremendous taxpayer resources, while restoring the sovereignty of our country.

As President, it is my legal obligation to exercise all tools at my disposal to end this invasion, remove the illegal-alien invaders from the United States, and protect the American people. This proclamation establishes Project Homecoming, which will present illegal aliens with a choice: either leave the United States voluntarily, with the support and financial assistance of the Federal Government, or remain and face the consequences.

NOW, THEREFORE, I, DONALD J. TRUMP, President of the United States of America, by the authority vested in me by the Constitution and the laws of the United States of America, including the Immigration and Nationality Act (INA) (8 U.S.C. 1101 et seq.), hereby proclaim and direct as follows:

Section 1. Free Return Home and CBP Home Application. (a) In furtherance of the purposes of this proclamation, and to facilitate the rapid departure of illegal aliens from the United States, I direct, pursuant to section 215(a)(1) of the INA (8 U.S.C. 1185(a)(1)), the Secretary of State and the Secretary of Homeland Security, in consultation with the heads of other relevant executive departments and agencies (agencies), to create seamless processes for illegal aliens to rapidly depart the United States, including through available technological resources, such as the “CBP Home” application.

(b) Any flights provided to illegal aliens voluntarily and permanently departing the United States pursuant to processes established under subsection (a) of this section shall be funded by the Federal Government.

(c) In furtherance of the purposes of this proclamation, and to facilitate the rapid departure of illegal aliens from the United States, I direct, pursuant to section 215(a)(1) of the INA (8 U.S.C. 1185(a)(1)), the Secretary of State and the Secretary of Homeland Security to take all appropriate actions to enable the rapid departure of illegal aliens from the United States who currently lack a valid travel document from their countries of citizenship or nationality or who desire to travel to any other country willing to accept their entry.

(d) The Secretary of State and the Secretary of Homeland Security shall create a concierge service whereby any alien illegally present in the United States may arrive at an airport, with or without appropriate travel documents, book air travel to permanently relocate to a different country, and claim the exit bonus described in section 2 of this proclamation upon their successful return.

Sec. 2. Exit Bonus. In furtherance of the purposes of this proclamation, and to facilitate the rapid departure of illegal aliens from the United States, the Secretary of State and the Secretary of Homeland Security, in consultation with the heads of all relevant agencies, shall provide financial incentives in the form of an “exit bonus” for each illegal alien who voluntarily and permanently departs the United States.

Sec. 3. Penalties for Aliens Who Fail to Depart. (a) The Secretary of State and the Secretary of Homeland Security, in consultation with the heads of other relevant agencies, shall conduct a nationwide communications campaign to notify illegal aliens of the availability of cost-free travel to other countries; the exit bonus; and the sweeping consequences for those who choose to remain illegally present, including removal, prosecution, incarceration, and fines as consistent with applicable law for immigration-related crimes; the garnishment of wages; and the confiscation of savings and personal property, including homes and vehicles.

(b) No later than 60 days after the date of this proclamation, the Secretary of Homeland Security shall supplement existing enforcement and removal operations by deputizing and contracting with State and local law enforcement officers, former Federal officers, officers and personnel within other Federal agencies, and other individuals to increase the enforcement and removal operations force of the Department of Homeland Security by no less than 20,000 officers in order to conduct an intensive campaign to remove illegal aliens who have failed to depart voluntarily.

IN WITNESS WHEREOF, I have hereunto set my hand this ninth day of May, in the year of our Lord two thousand twenty-five, and of the Independence of the United States of America the two hundred and forty-ninth.

[FR Doc. 2025-08673

Filed 5-13-25; 8:45 am]

Billing code 3395-F4-P